NUCLEAR REGULATORY COMMISSION

10 CFR Part 71

Regulations for the Safe Transport of Radioactive Material; Solicitation of Issue Proposals

AGENCY: U.S. Nuclear Regulatory Commission.

ACTION: Solicitation of Proposed Issues or Identified Problems with the International Atomic Energy Agency Regulations.

SUMMARY: The U.S. Nuclear Regulatory Commission (NRC) and the U.S. Department of Transportation (DOT) are jointly seeking proposed issues or identified problems with the International Atomic Energy Agency (IAEA) Regulations for the Safe Transport of Radioactive Material (referred to as TS-R-1). Proposed issues or identified problems that are submitted by the United States and other IAEA member states and International Organizations might necessitate subsequent domestic compatibility rulemakings by both NRC and DOT.

DATES: Proposed issues or identified problems will be accepted until August 15, 2007. Proposals received after this date will be considered if it is practical to do so, however we are only able to assure consideration for proposals received on or before this date.

ADDRESSES: Comments may be submitted either electronically or via U.S. mail.

Mail proposed issues or identified problems to Michael T. Lesar, Chief, Rulemaking, Directives and Editing Branch, Mail Stop T6-D59, U.S. Nuclear Regulatory Commission, Washington, DC 20555-0001. Deliver proposals to 11555 Rockville Pike, Rockville, Maryland, 20852, between 7:45 a.m. and 4:15 p.m. on Federal workdays. Submit proposals by electronic mail to: nrcrep@nrc.gov.

Copies of proposal documents received may be reviewed at the NRC's Public Document Room, One White Flint North, Public File Area 01-F21, 11555 Rockville Pike (First Floor), Rockville, Maryland.

FOR FURTHER INFORMATION CONTACT: Michele M. Sampson, Office of Nuclear Material Safety and Safeguards, USNRC, Washington, DC 20555-0001, telephone: (301) 492-3292; e-mail: mxs14@nrc.gov.

SUPPLEMENTARY INFORMATION:

I. Background

The IAEA periodically revises its Regulations for the Safe Transport of Radioactive Material (TS-R-1) to reflect new information and accumulated experience. The DOT is the U.S. competent authority before the IAEA for radioactive material transportation matters. The NRC provides technical support to the DOT in this regard, particularly with regard to Type B and fissile transportation packages.

The IAEA recently initiated the review cycle for a potential 2011 edition of TS-R-1. The IAEA's review process calls for Member States and International Organizations to provide proposals for review of issues or identified problems with the regulations to the IAEA by August 31, 2007. To assure opportunity for public involvement in the international regulatory development process, the DOT and the NRC are soliciting proposals for issues or identified problems with the IAEA international transportation standard, TS-R-1, at this time.

A specific area of interest are proposals related to the IAEA package surface contamination limits in TS-R-1. In 2000, an IAEA Coordinated Research Project (CRP) to review contamination control methods and develop a non-fixed contamination dose model for packages was initiated. The results of the CRP were published as IAEA-TECDOC-1449, Radiological aspects of non-fixed contamination of packages and conveyances, June 2005 (available at www.iaea.org). The CRP concluded that the current limits for non-fixed contamination on packages were developed using very conservative assumptions. Potential alternative methods of specifying contamination limits could include a radionuclide specific approach. We are seeking input regarding the usefulness, feasibility or practicality of implementing dose-based package surface contamination limits, and the issues or identified problems pertinent to incorporation of new non-fixed contamination limits into TS-R-1.

The focus of this solicitation is to identify issues or problems with the current 2005 edition of TS-R-1. While it is helpful to identify potential changes or solutions to resolve the identified issues or problems, it is not required to provide a proposed change to accompany each identified issue or problem. This information will assist the DOT and the NRC in having a full range of views as the agencies develop the proposed issues the U.S. will submit to the IAEA.

II. Public Participation

Proposed issues or identified problems should cite the publication date and page number of this Federal Register document. Proposals must be submitted in writing (electronic file on disk in WordPerfect format preferred) and should include:

• Name;

• Address;

• Telephone No.;

• E-mail address;

• Principal objective of issue or identified problem (e.g., Required to provide adequate protection to health and safety of public and occupational workers, needed to define or redefine level of protection to health and safety of public and occupational workers, required for consistency within the Transport Regulations, required as a result of advances in technology, needed to improve implementation of the Transport Regulations);

• Topic of issue or identified problem—Describe or frame the issue or the identified problem by reference to or using the table of contents of TS-R-1 (2005 Edition) and the Advisory Material for the IAEA Regulations for the Safe Transport of Radioactive Material (TS-G-1.1 (ST-2));

• Justification for proposed change—Provide a clear statement of the main objectives of the proposed change and the solution “path” (e.g., change to regulations, additional guidance, a research project);

• An assessment of the benefits and impacts of the proposed change—Including changes in public and occupational exposure, changes in accident risk, and effects on health, safety or the natural environment. The affected parties should be identified.

• Paragraphs affected and proposed text change to regulatory text in TS-R-1;

• Paragraphs affected and proposed text change to IAEA advisory material in TS-G-1.1;

• A listing of any applicable reference documents;

• Description of issue or identified problem to be addressed;

• Summary of proposed solution to the issue or identified problem; and

• Expected cost of implementation (negligible, low, medium or high).

The DOT and the NRC will review the proposed issues, identified problems, rationales and, if included, changes and proposed solutions. Based in part on the information received, the U.S. will develop proposed issues or identified problems to be submitted to the IAEA by August 31, 2007.

Proposed issues and identified problems from all Member States and International Organizations will be considered at an IAEA Transport Safety Standards Committee (TRANSSC) Meeting to be convened by IAEA on October 1-5, 2007, in Vienna, Austria. Prior to that meeting, the DOT and the NRC will consider holding a public meeting to discuss the U.S. proposed changes submitted to the IAEA.

Dated at Rockville, Maryland, this 29th day of June 2007.
For the Nuclear Regulatory Commission.
Kevin Williams,
Chief, Rules, Inspections, and Operations Branch, Division of Spent Fuel Storage and Transportation, Office of Nuclear Material Safety and Safeguards.

[FR Doc. E7-13318 Filed 7-9-07; 8:45 am]

BILLING CODE 7590-01-P